DEPARTMENT OF DEFENSE

Office of the Secretary

[Docket ID: DOD-2018-OS-0072]

Submission for OMB Review; Comment Request

AGENCY: Office of the Under Secretary of Defense for Policy, DoD.

ACTION: 30-Day information collection notice.

SUMMARY: The Department of Defense has submitted to OMB for clearance the following proposal for collection of information under the provisions of the Paperwork Reduction Act.

DATES: Consideration will be given to all comments received by January 25, 2019.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Fred Licari, 571-372-0493, or whs.mc-alex.esd.mbx.dd-dod-information-collections@mail.mil.

SUPPLEMENTARY INFORMATION:

Title; Associated Form; and OMB Number: The Defense Institute of Security Assistance Management (DISAM) Information Technology Mission System; DISAM Form GSI-001; OMB Control Number 0704-0548.

Type of Request: Extension.

DISCS Student Registration Form:

Number of Respondents: 12,353.

Responses per Respondent: 2

Annual Responses: 24,706.

Average Burden per Response: 15 minutes.

Annual Burden Hours: 6,177.

DISCS Guest Speaker Form:

Number of Respondents: 206.

Responses per Respondent: 1.

Annual Responses: 206.

Average Burden per Response: 15 minutes.

Annual Burden Hours: 52.

Annual Totals:

Annual Burden Hours: 6,228.

Total Annual Respondents: 12,559.

Total Average Burden per Response: 15 minutes.

Total Annual Responses: 24,912.

Needs and Uses: The DISAM Information Technology Mission System (DISM): Is a web based portal designed to hold several web applications for the purposes of efficient administration of U.S. and international students, and the effective management of DISAM personnel and guest lecturers. The portal provides DISAM personnel the ability to submit travel request and travel arrangements. Finally, the web based portal uses a relational database to record, manage and report information about students, personnel, travel. Reports of annual training of Foreign nationals to Congress as required by 22 U.S. Code 2394 (Foreign Assistance Act (FAA)) and 22 U.S. Code 2770A (Arms Export Control Act (AECA)).

Affected Public: Individuals and households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Frederick Licari.

Requests for copies of the information collection proposal should be sent to Mr. Licari at whs.mc-alex.esd.mbx.dd-dod-information-collections@mail.mil.

Dated: December 14, 2018.
Shelly E. Finke,
Alternate OSD Federal Register, Liaison Officer, Department of Defense.

[FR Doc. 2018-27851 Filed 12-21-18; 8:45 am]

BILLING CODE 5001-06-P